DEPARTMENT OF JUSTICE

Drug Enforcement Administration

Management of Controlled Substances; Notice of Application

Pursuant to § 1301.33(a) of Title 21 of the Code of Federal Regulations (CFR), this is notice that on July 7, 2000, National Center for Development of Natural Products, The University of Mississippi, 135 Cox Waller Complex, University, Mississippi 38677, made application by renewal to the Drug Enforcement Administration (DEA) for registration as a bulk manufacturer of the basic classes of controlled substances listed below:

Drug | Schedule
Marihuana (7360) | I
Tetrahydrocannabinols (7370) | I

The firm plans to bulk manufacture for product development.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than March 12, 2001.

Dated: December 5, 2000.
John H. King,
Deputy Assistant Administrator, Office of Division Control, Drug Enforcement Administration.

[FR Doc. 01-756 Filed 1-9-01; 8:45 am]

BILLING CODE 4410-09-M